DEPARTMENT OF COMMERCE

Foreign-Trade Zones Board

[Order No. 1427]

Approval of Manufacturing Authority Within Foreign-Trade Zone 105; North Kingstown, RI; Southeastern New England Shipbuilding Corporation (Shipbuilding)

Pursuant to its authority under the Foreign-Trade Zones Act of June 18, 1934, as amended (19 U.S.C. 81a-81u) (the Act), the Foreign-Trade Zones Board (the Board) adopts the following Order:

Whereas, the Rhode Island Economic Development Corporation, grantee of FTZ 105, has requested authority on behalf of Southeastern New England Shipbuilding Corporation (Senesco) to construct and repair oceangoing vessels under FTZ procedures within FTZ 105—Site 2 (Quonset Business Park), North Kingstown, Rhode Island (Docket 21-2005, filed 5-16-2005);

Whereas, the application seeks FTZ authority to construct and repair tugboats, double-hulled liquid barges, and articulating tug barges;

Whereas, the proposed shipbuilding and repair activity would be subject to the “Standard Shipyard Restriction” (full Customs duties paid on steel mill products);

Whereas, notice inviting public comment has been given in the Federal Register (70 FR 29477, 5-23-2005); and,

Whereas, the Board adopts the findings and recommendations of the examiner's report and finds that the requirements of the Act and the Board's regulations are satisfied, and that approval of the application is in the public interest;

Now, Therefore, the Board approves the request subject to the Act and the Board's regulations, including section 400.28, and the following special conditions:

Any foreign steel mill product admitted to the subzone, including plate, angles, shapes, channels, rolled steel stock, bars, pipes and tubes, not incorporated into merchandise otherwise classified, and which is used in manufacturing, shall be subject to full Customs duties in accordance with applicable law, unless the Executive Secretary determines that the same item is not then being produced by a domestic steel mill.

In addition to the annual report, Senesco shall annually advise the Board's Executive Secretary (§ 400.28(a)(3)) as to significant new contracts with appropriate information concerning foreign purchases otherwise dutiable.

Signed at Washington, DC, this 21st day of December 2005.
Joseph A. Spetrini,
Acting Assistant Secretary of Commerce for Import Administration, Alternate Chairman, Foreign-Trade Zones Board.

[FR Doc. E5-8149 Filed 12-29-05; 8:45 am]

BILLING CODE 3510-DS-P